DEPARTMENT OF VETERANS AFFAIRS

Advisory Committee on Women Veterans, Notice of Meeting

The Department of Veterans Affairs (VA) gives notice under the Federal Advisory Committee Act, 5 U.S.C. App. 2., that the Advisory Committee on Women Veterans will conduct a virtual meeting on April 27-29, 2021. The meeting will begin and ends as follows:

Date: | Time: | Location:
April 27, 2021 | 10 a.m.-2:30 p.m. Eastern Standard Time (EST) | See TEAMS link and call-in information below
April 28, 2021 | 10 a.m.-2:30 p.m. (EST) | See TEAMS link and call-in information below
April 29, 2021 | 10 a.m.-1 p.m. (EST) | See TEAMS link and call-in information below

The meeting sessions are open to the public.

The purpose of the Committee is to advise the Secretary of Veterans Affairs regarding the needs of women Veterans with respect to health care, rehabilitation, compensation, outreach, and other programs and activities administered by VA designed to meet such needs. The Committee makes recommendations to the Secretary regarding such programs and activities.

The agenda will include updates from the Veterans Health Administration, the Veterans Benefits Administration, and Staff Offices, as well as briefings on other issues impacting women Veterans.

No time will be allocated at this meeting for receiving oral presentations from the public. Interested parties should provide written comments for review by the Committee to Ms. Shannon L. Middleton at 00W@mail.va.gov no later than April 20, 2021. Any member of the public who wishes to participate in the virtual meeting may use the following TEAMS link: https://teams.microsoft.com/l/meetup-join/19%3ameeting_Y2Q5ZDI0MGEtNjRkOC00YjM3LWI4MDQtNDQ3YzUwOThjOTE3%40thread.v2/0?context=%7b%22Tid%22%3a%22e95f1b23-abaf-45ee-821d-b7ab251ab3bf%22%2c%22Oid%22%3a%229b0a18fa-89dd-4a43-9705-9c3fda3a37cf%22%7d. To join the meeting session via phone: 1-872-701-0185; code: 356 042 574#.

Dated: March 29, 2021.
Jelessa M. Burney,
Federal Advisory Committee Management Officer.

[FR Doc. 2021-06760 Filed 4-1-21; 8:45 am]

BILLING CODE P